DEPARTMENT OF HOMELAND SECURITY

Federal Emergency Management Agency

[Docket ID FEMA-2022-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Alaska: Anchorage (FEMA Docket No.: B-2158) | Municipality of Anchorage (20-10-0848P). | The Honorable Austin Quinn-Davidson, Mayor, Municipality of Anchorage, 632 West 6th Avenue, Suite 840, Anchorage, AK 99501. | Municipality of Anchorage, 4700 South Bargaw Street, Anchorage, AK 99507. | Nov. 5, 2021 | 020005
Arizona:
Coconino (FEMA Docket No.: B-2167) | City of Flagstaff (21-09-0522P). | The Honorable Paul Deasy, Mayor, City of Flagstaff, 211 West Aspen Avenue, Flagstaff, AZ 86001. | Community Development Department, 211 West Aspen Avenue, Flagstaff, AZ 86001. | Dec. 3, 2021 | 040020
Maricopa (FEMA Docket No.: B-2167) | City of Buckeye (19-09-1715P). | The Honorable Eric Orsborn, Mayor, City of Buckeye, 530 East Monroe Avenue, Buckeye, AZ 85326. | Engineering Department, 530 East Monroe Avenue, Buckeye, AZ 85326. | Dec. 10, 2021 | 040039
Maricopa (FEMA Docket No.: B-2147) | City of Buckeye (20-09-0491P). | The Honorable Eric Orsborn, Mayor, City of Buckeye, 530 East Monroe Avenue, Buckeye, AZ 85326. | Engineering Department, 530 East Monroe Avenue, Buckeye, AZ 85326. | Sep. 24, 2021 | 040039
Maricopa (FEMA Docket No.: B-2167) | City of Buckeye (20-09-1158P). | The Honorable Eric Orsborn, Mayor, City of Buckeye, 530 East Monroe Avenue, Buckeye, AZ 85326. | Engineering Department, 530 East Monroe Avenue, Buckeye, AZ 85326. | Nov. 26, 2021 | 040039
Maricopa (FEMA Docket No.: B-2147) | City of Buckeye (21-09-0258P) | The Honorable Eric Orsborn, Mayor, City of Buckeye, 530 East Monroe Avenue, Buckeye, AZ 85326. | Engineering Department, 530 East Monroe Avenue, Buckeye, AZ 85326. | Sep. 10, 2021 | 040039
Maricopa (FEMA Docket No.: B-2147) | City of Goodyear (20-09-1436P). | The Honorable Georgia Lord, Mayor, City of Goodyear, 190 North Litchfield Road, Goodyear, AZ 85338. | Engineering and Development Services, 14455 West Van Buren Street, Suite D101, Goodyear, AZ 85338. | Sep. 24, 2021 | 040046
Maricopa (FEMA Docket No.: B-2183) | City of Goodyear (21-09-0561P). | The Honorable Georgia Lord, Mayor, City of Goodyear, 190 North Litchfield Road, Goodyear, AZ 85338. | Engineering and Development Services, 14455 West Van Buren Street, Suite D101, Goodyear, AZ 85338. | Feb. 4, 2022 | 040046
Maricopa (FEMA Docket No.: B-2183) | City of Goodyear (21-09-0613P). | The Honorable Georgia Lord, Mayor, City of Goodyear, 190 North Litchfield Road, Goodyear, AZ 85338. | Engineering and Development Services, 14455 West Van Buren Street, Suite D101, Goodyear, AZ 85338. | Feb. 11, 2022 | 040046
Maricopa (FEMA Docket No.: B-2158) | City of Surprise (21-09-0673P). | The Honorable Skip Hall, Mayor, City of Surprise, 16000 North Civic Center Plaza, Surprise, AZ 85374. | Public Works Department, Engineering Development Services, 16000 North Civic Center Plaza, Surprise, AZ 85374. | Nov. 5, 2021 | 040053
Maricopa (FEMA Docket No.: B-2167) | Unincorporated Areas of Maricopa County (19-09-1715P). | The Honorable Jack Sellers, Chairman, Board of Supervisors, Maricopa County, 301 West Jefferson Street, 10th Floor, Phoenix, AZ 85003. | Flood Control District of Maricopa County, 2801 West Durango Street, Phoenix, AZ 85009. | Dec. 10, 2021 | 040037
Maricopa (FEMA Docket No.: B-2147) | Unincorporated Areas of Maricopa County (20-09-0491P). | The Honorable Jack Sellers, Chairman, Board of Supervisors, Maricopa County, 301 West Jefferson Street, 10th Floor, Phoenix, AZ 85003. | Flood Control District of Maricopa County, 2801 West Durango Street, Phoenix, AZ 85009. | Sep. 24, 2021 | 040037
Pima (FEMA Docket No.: B-2167) | Town of Marana (21-09-0693P). | The Honorable Ed Honea, Mayor, Town of Marana, 11555 West Civic Center Drive, Marana, AZ 85653. | Engineering Department, Marana Municipal Complex, 11555 West Civic Center Drive, Marana, AZ 85653. | Dec. 13, 2021 | 040118
Pinal (FEMA Docket No.: B-2176) | Town of Florence (21-09-0464P). | The Honorable Tara Walter, Mayor, Town of Florence, P.O. Box 2670, Florence, AZ 85132. | Public Works Department, 224 West 20th Street, Florence, AZ 85132. | Jan. 14, 2022 | 040084
Pinal (FEMA Docket No.: B-2158). | Unincorporated Areas of Pinal County (21-09-0194P) | The Honorable Stephen Q. Miller, Chairman, Board of Supervisors, Pinal County, P.O. Box 827, Florence, AZ 85132. | Pinal County Engineering Division, 31 North Pinal Street, Building F, Florence, AZ 85132. | Oct. 22, 2021 | 040077
Yavapai (FEMA Docket No.: B-2183) | Unincorporated Areas of Yavapai County (21-09-1317P). | The Honorable Craig L. Brown, Chairman, Board of Supervisors, Yavapai County, 1015 Fair Street, 3rd Floor, Prescott, AZ 86305. | Yavapai County Flood Control District, 1120 Commerce Drive, Prescott, AZ 86305. | Feb. 25, 2022 | 040093
California:
Alameda (FEMA Docket No.: B-2183) | Unincorporated Areas of Alameda County (21-09-0655P). | The Honorable Keith Carson, President, Board of Supervisors, Alameda County, 1221 Oak Street, Suite 536, Oakland, CA 94612. | Alameda County Public Works Agency, 399 Elmhurst Street, Hayward, CA 94544. | Feb. 9, 2022 | 060001
Butte (FEMA Docket No.: B-2176) | City of Gridley (20-09-0709P). | The Honorable Bruce Johnson, Mayor, City of Gridley, 685 Kentucky Street, Gridley, CA 95948. | Public Works Department, 853 Laurel Street, Gridley, CA 95948. | Jan. 31, 2022 | 060019
Butte (FEMA Docket No.: B-2176) | Unincorporated Areas of Butte County (20-09-0709P). | The Honorable Bill Connelly, Chairman, Board of Supervisors, Butte County, 25 County Center Drive, Suite 200, Oroville, CA 95965. | Butte County Department of Public Works, 7 County Center Drive, Oroville, CA 95965. | Jan. 31, 2022 | 060017
Riverside (FEMA Docket No.: B-2183) | City of Desert Hot Springs (21-09-1431P). | The Honorable Scott Matas, Mayor, City of Desert Hot Springs, 11-999 Palm Drive, Desert Hot Springs, CA 92240. | Planning Department, 65-95 Pierson Boulevard, Desert Hot Springs, CA 92240. | Feb. 18, 2022 | 060251
Riverside (FEMA Docket No.: B-2176) | City of Menifee (21-09-0711P). | The Honorable Bill Zimmerman, Mayor, City of Menifee, 29844 Haun Road, Menifee, CA 92586. | Public Works and Engineering Department, 29714 Haun Road, Menifee, CA 92586. | Jan. 24, 2022 | 060176
Riverside (FEMA Docket No.: B-2176) | City of Perris (21-09-0711P). | The Honorable Michael Vargas, Mayor, City of Perris, 101 North D Street, Perris, CA 92570. | Engineering Department, 24 South D Street, Suite 100, Perris, CA 92570. | Jan. 24, 2022 | 060258
Riverside (FEMA Docket No.: B-2158) | Unincorporated Areas of Riverside County (21-09-0016P). | The Honorable Karen Spiegel, Chair, Board of Supervisors, Riverside County, 4080 Lemon Street, 5th Floor, Riverside, CA 92502. | Riverside County, Flood Control and Water Conservation District, 1995 Market Street, Riverside, CA 92501. | Nov. 26, 2021 | 060245
Riverside (FEMA Docket No.: B-2183) | Unincorporated Areas of Riverside County (21-09-1431P). | The Honorable Karen Spiegel, Chair, Board of Supervisors, Riverside County, 4080 Lemon Street, 5th Floor, Riverside, CA 92501. | Riverside County Flood Control and Water Conservation District, 1995 Market Street, Riverside, CA 92501. | Feb. 18, 2022 | 060245
San Diego (FEMA Docket No.: B-2167) | City of San Diego, (21-09-0611P). | The Honorable Todd Gloria, Mayor, City of San Diego, 202 C Street, 11th Floor, San Diego, CA 92101. | Development Services Department, 1222 1st Avenue, MS 301, San Diego, CA 92101. | Dec. 15, 2021 | 060295
San Diego (FEMA Docket No.: B-2167) | Unincorporated Areas of San Diego County, (21-09-0373P). | The Honorable Nathan Fletcher, Chairman, Board of Supervisors, San Diego County, 1600 Pacific Highway Room 335, San Diego, CA 92101. | San Diego County Flood Control District, Department of Public Works, 5510 Overland Avenue, Suite 410, San Diego, CA 92123. | Dec. 16, 2021 | 060284
San Diego (FEMA Docket No.: B-2176) | Unincorporated Areas of San Diego County (21-09-0926P). | The Honorable Nathan Fletcher, Chairman, Board of Supervisors, San Diego County, 1600 Pacific Highway Room 335, San Diego, CA 92101. | San Diego County Flood Control District, Department of Public Works, 5510 Overland Avenue, Suite 410, San Diego, CA 92123. | Dec. 27, 2021 | 060284
San Joaquin (FEMA Docket No.: B-2158) | City of Lathrop (20-09-0630P). | The Honorable Sonny Dhaliwal, Mayor, City of Lathrop, 390 Towne Centre Drive, Lathrop, CA 95330. | Community Development Department, Planning Division, 390 Towne Centre Drive, Lathrop, CA 95330. | Nov. 18, 2021 | 060738
San Luis Obispo (FEMA Docket No.: B-2147) | City of San Luis Obispo (21-09-0591P). | The Honorable Heidi Harmon, Mayor, City of San Luis Obispo, 990 Palm Street, San Luis Obispo, CA 93401. | City Hall, 990 Palm Street, San Luis Obispo, CA 93401. | Oct. 4, 2021 | 060310
San Luis Obispo (FEMA Docket No.: B-2176) | City of San Luis Obispo (21-09-0731P). | The Honorable Heidi Harmon, Mayor, City of San Luis Obispo, 990 Palm Street, San Luis Obispo, CA 93401. | City Hall, 990 Palm Street, San Luis Obispo, CA 93401. | Dec. 23, 2021 | 060310
Santa Clara (FEMA Docket No.: B-2167) | City of San Jose (20-09-1371P). | The Honorable Sam Liccardo, Mayor, City of San Jose, Mayor's Office, 200 East Santa Clara Street, San Jose, CA 95113. | Department of Public Works, 200 East Santa Clara Street Tower, 5th Floor, San Jose, CA 95113. | Nov. 26, 2021 | 060349
Santa Clara (FEMA Docket No.: B-2167) | Unincorporated Areas of Santa Clara County (20-09-1371P). | The Honorable Mike Wasserman, President, Board of Supervisors, Santa Clara County, 70 West Hedding Street, 10th Floor, San Jose, CA 95110. | Santa Clara County, Department of Planning and Development, 70 West Hedding Street, 7th Floor East Wing, San Jose, CA 95110. | Nov. 26, 2021 | 060337
Santa Clara (FEMA Docket No.: B-2147) | Unincorporated Areas of Santa Clara County (20-09-1627P). | The Honorable Mike Wasserman, President, Board of Supervisors, Santa Clara County, 70 West Hedding Street, 10th Floor, San Jose, CA 95110. | Santa Clara County, Department of Planning and Development, 70 West Hedding Street, 7th Floor East Wing, San Jose, CA 95110. | Sep. 16, 2021 | 060337
Ventura (FEMA Docket No.: B-2158) | City of Simi Valley (21-09-0281P). | The Honorable Keith L. Mashburn, Mayor, City of Simi Valley, 2929 Tapo Canyon Road, Simi Valley, CA 93063. | City Hall, 2929 Tapo Canyon Road, Simi Valley, CA 93063. | Nov. 8, 2021 | 060421
Ventura (FEMA Docket No.: B-2158) | Unincorporated Areas of Ventura County (20-09-1626P). | The Honorable Linda Parks, Chair, Board of Supervisors, Ventura County, 800 South Victoria Avenue, Ventura, CA 93009. | Ventura County Public Works Agency, 800 South Victoria Avenue, Ventura, CA 93009. | Oct. 21, 2021 | 060413
Colorado:
Larimer (FEMA Docket No.: B-2176) | Town of Berthoud (21-08-0181P). | The Honorable William Karspeck, Mayor, Town of Berthoud, P.O. Box 1229, Berthoud, CO 80513. | Town Hall, 807 Mountain Avenue, Berthoud, CO 80513. | Dec. 22, 2021 | 080296
Larimer (FEMA Docket No.: B-2176) | Unincorporated Areas of Larimer County (21-08-0181P). | Mr. John Kefalas, Chair, Larimer County, 200 West Oak Street, Fort Collins, CO 80521. | Larimer Courthouse Offices Building, 200 West Oak Street, Suite 3000, Fort Collins, CO 80521. | Dec. 22, 2021 | 080101
Morgan (FEMA Docket No.: B-2158) | Unincorporated Areas of Morgan County (21-08-0019P). | Mr. Mark Arndt, District 1 Commissioner, Morgan County, P.O. Box 596, Fort Morgan, CO 80701. | Morgan County Planning and Zoning Department, 218 West Kiowa Avenue, Fort Morgan, CO 80701. | Oct. 22, 2021 | 080129
Summit (FEMA Docket No.: B-2176) | Town of Breckenridge (21-08-0179P). | The Honorable Eric Mamula, Mayor, Town of Breckenridge, P.O. Box 168, Breckenridge, CO 80424. | Public Works, 1095 Airport Road, Breckenridge, CO 80424. | Dec. 27, 2021 | 080172
Summit (FEMA Docket No.: B-2176) | Unincorporated Areas of Summit County (21-08-0179P). | Ms. Elizabeth Lawrence, District 1 Commissioner Summit County, Board of County Commissioners, P.O. Box 68, Breckenridge, CO 80424. | Summit County Commons, 0037 Peak One Drive, Frisco, CO 80443. | Dec. 27, 2021 | 080290
Florida:
Bay (FEMA Docket No.: B-2147) | City of Panama City Beach (19-04-5458P). | The Honorable Mark Sheldon, Mayor, City of Panama City Beach, 17007 Panama City Beach Parkway, Panama City Beach, FL 32413. | City Hall, 110 South Arnold Road, Panama City Beach, FL 32413. | Sep. 22, 2021 | 120013
Bay (FEMA Docket No.: B-2147) | City of Panama City Beach (19-04-5699P). | The Honorable Mark Sheldon, Mayor, City of Panama City Beach, 17007 Panama City Beach Parkway, Panama City Beach, FL 32413. | City Hall, 110 South Arnold Road, Panama City Beach, FL 32413. | Sep. 22, 2021 | 120013
Bay (FEMA Docket No.: B-2147). | Unincorporated Areas of Bay County (19-04-5458P). | Mr. Robert Carroll, Chairman, Commissioner District 2, Bay County, 840 West 11th Street, Panama City, FL 32401. | Bay County Planning and Zoning, 707 Jenks Avenue, Suite B, Panama City, FL 32401. | Sep. 22, 2021 | 120004
Duval (FEMA Docket No.: B-2176) | City of Jacksonville (20-04-3087P). | The Honorable Lenny Curry, Mayor, City of Jacksonville, City Hall at St. James, 117 West Duval Street Suite 400, Jacksonville, FL 32202. | Edward Ball Building Development Services, Room 2100, 214 North Hogan Street, Jacksonville, FL 32202. | Jan. 13, 2022 | 120077
Duval (FEMA Docket No.: B-2158) | City of Jacksonville (21-04-0683P). | The Honorable Lenny Curry, Mayor, City of Jacksonville, City Hall at St. James Building, 117 West Duval Street Suite 400, Jacksonville, FL 32202. | Edward Ball Building Development Services Room 2100, 214 North Hogan Street, Jacksonville, FL 32202. | Oct. 14, 2021 | 120077
Flagler (FEMA Docket No.: B-2176) | City of Bunnell, (21-04-0706P). | The Honorable Catherine Robinson, Mayor, City of Bunnell, P.O. Box 756, Bunnell, FL 32110. | City Hall, 200 South Church Street, Bunnell, FL 32110. | Jan. 27, 2022 | 120086
Flagler (FEMA Docket No.: B-2176) | City of Palm Coast (21-04-0706P). | The Honorable David Alfin, Mayor, City of Palm Coast, 160 Lake Avenue, Palm Coast, FL 32164. | City Hall, 2 Commerce Boulevard, Palm Coast, FL 32164. | Jan. 27, 2022 | 120684
St. Johns (FEMA Docket No.: B-2158 and 2167) | Unincorporated Areas of St. Johns County (20-04-5575P). | Mr. Jeremiah Ray Blocker, Chair, St. Johns County Board of County Commissioners, 500 San Sebastian View, St. Augustine, FL 32084. | St. Johns County Administration Building, 4020 Lewis Speedway, St. Augustine, FL 32084. | Nov. 29, 2021 | 125147
St. Johns (FEMA Docket No.: B-2147) | Unincorporated Areas of St. Johns County (20-04-5766P). | Mr. Jeremiah Ray Blocker, Chair, St. Johns County Board of County Commissioners, 500 San Sebastian View, St. Augustine, FL 32084. | St. Johns County Administration Building, 4020 Lewis Speedway, St. Augustine, FL 32084. | Sep. 21, 2021 | 125147
St. Johns, (FEMA Docket No.: B-2147) | Unincorporated Areas of St. Johns County (20-04-5819P). | Mr. Jeremiah Ray Blocker, Chair, St. Johns County Board of County Commissioners, 500 San Sebastian View, St. Augustine, FL 32084. | St. Johns County Administration Building, 4020 Lewis Speedway, St. Augustine, FL 32084. | Sep. 24, 2021 | 125147
St. Johns (FEMA Docket No.: B-2147) | Unincorporated Areas of St. Johns County (21-04-0576P). | Mr. Jeremiah Ray Blocker, Chair, St. Johns County Board of County Commissioners, 500 San Sebastian View, St. Augustine, FL 32084. | St. Johns County Administration Building, 4020 Lewis Speedway, St. Augustine, FL 32084. | Oct. 4, 2021 | 125147
St. Johns (FEMA Docket No.: B-2158) | Unincorporated Areas of St. Johns County (21-04-0683P). | Mr. Jeremiah Ray Blocker, Chair, St. Johns County Board of County Commissioners, 500 San Sebastian View, St. Augustine, FL 32084. | St. Johns County Administration Building, 4020 Lewis Speedway, St. Augustine, FL 32084. | Oct. 14, 2021 | 125147
St. Johns (FEMA Docket No.: B-2167) | Unincorporated Areas of St. Johns County (21-04-1058P). | Mr. Jeremiah Ray Blocker, Chair, St. Johns County Board of County Commissioners, 500 San Sebastian View, St. Augustine, FL 32084. | St. Johns County Administration Building, 4020 Lewis Speedway, St. Augustine, FL 32084. | Dec. 16, 2021 | 125147
St. Johns (FEMA Docket No.: B-2183) | Unincorporated Areas of St. Johns County (21-04-2134P). | Mr. Jeremiah Ray Blocker, Chair, St. Johns County Board of County Commissioners, 500 San Sabastian View, St. Augustine, FL 32084. | St. Johns County Administration Building, 4020 Lewis Speedway, St. Augustine, FL 32084. | Mar. 1, 2022 | 125147
Idaho:
Ada (FEMA Docket No.: B-2147) | City of Boise (21-10-0103P). | The Honorable Lauren McLean, Mayor, City of Boise, P.O. Box 500, Boise, ID 83701. | City Hall, 150 North Capitol Boulevard, Boise, ID 83701. | Sep. 24, 2021 | 160002
Ada (FEMA Docket No.: B-2167) | City of Boise, (21-10-0465P). | The Honorable Lauren McLean, Mayor, City of Boise, P.O. Box 500, Boise, ID 83701. | City Hall, 150 North Capitol Boulevard, Boise, ID 83701. | Dec. 27, 2021 | 160002
Ada (FEMA Docket No.: B-2158) | City of Eagle, (20-10-1292P). | The Honorable Jason Pierce, Mayor, City of Eagle, 660 East Civic Lane, Eagle, ID 83616. | City Hall, 660 East Civic Lane, Eagle, ID 83616. | Oct. 14, 2021 | 160003
Ada (FEMA Docket No.: B-2147) | City of Star, (20-10-0725P). | The Honorable Trevor Chadwick, Mayor, City of Star, P.O. Box 130, Star, ID 83669. | City Hall, 10769 West State Street, Star, ID 83669. | Aug. 10, 2021 | 160236
Ada (FEMA Docket No.: B-2158) | City of Star, (20-10-1292P). | The Honorable Trevor Chadwick, Mayor, City of Star, City Hall, 10769 West State Street, Star, ID 83669. | City Hall, 10769 West State Street, Star, ID 83669. | Oct. 14, 2021 | 160236
Ada (FEMA Docket No.: B-2147) | Unincorporated Areas of Ada County, (20-10-0725P). | Mr. Rod Beck, Chairman, Ada County Board of Commissioners, 200 West Front Street, Boise, ID 83702. | Ada County Courthouse, 200 West Front Street, Boise, ID 83702. | Aug. 10, 2021 | 160001
Ada (FEMA Docket No.: B-2158) | Unincorporated Areas of Ada County, (20-10-1292P). | Mr. Rod Beck, Chairman, Ada County Board of Commissioners, 200 West Front Street, Boise, ID 83702. | Ada County Courthouse, 200 West Front Street, Boise, ID 83702. | Oct. 14, 2021 | 160001
Bannock (FEMA Docket No.: B-2183) | City of Pocatello, (21-10-0641P). | The Honorable Brian Blad, Mayor, City of Pocatello, P.O. Box 4169, Pocatello, ID 83205. | City Hall, 911 North 7th Avenue, Pocatello, ID 83201. | Feb. 21, 2022 | 160012
Bannock (FEMA Docket No.: B-2183) | City of Pocatello, (21-10-0870P). | The Honorable Brian Blad, Mayor, City of Pocatello, P.O. Box 4169, Pocatello, ID 83205. | City Hall, 911 North 7th Avenue, Pocatello, ID 83201. | Mar. 2, 2022 | 160012
Camas (FEMA Docket No.: B-2183) | City of Fairfield, (21-10-0381P). | The Honorable Terry Lee, Mayor, City of Fairfield, P.O. Box 336, Fairfield, ID 83327. | City Hall, 407 Soldier Road, Fairfield, ID 83327. | Mar. 2, 2022 | 160035
Will (FEMA Docket No.: B-2158) | Village of Bolingbrook, (21-05-0627P). | The Honorable Mary Alexander-Basta, Mayor, Village of Bolingbrook, 375 West Briarcliff Road, Bolingbrook, IL 60440. | Village Hall, 375 West Briarcliff Road, Bolingbrook, IL 60440. | Oct. 28, 2021 | 170812
Illinois:
Winnebago (FEMA Docket No.: B-2183) | City of Rockford, (21-05-1319P). | The Honorable Thomas P. McNamara, Mayor, City of Rockford, 425 East State Street, 8th Floor, Rockford, IL 61104. | City Hall, 425 East State Street, Rockford, IL 61104. | Jan. 27, 2022 | 170723
Winnebago (FEMA Docket No.: B-2183) | Unincorporated Areas of Winnebago County, (21-05-1319P). | The Honorable Joseph V. Chiarelli, Chairman, Winnebago County Board, Administration Building, 404 Elm Street, Room 533, Rockford, IL 61101. | Winnebago County Administration Building, 404 Elm Street, Rockford, IL 61101. | Jan. 27, 2022 | 170720
Indiana:
Hendricks (FEMA Docket No.: B-2183) | Town of Avon, (21-05-1602P). | Ms. Dawn Lowden, Town of Avon Council President, 6570 East Us Highway 36, Avon, IN 46123. | Town Hall, 6570 East US Highway 36, Avon, IN 46123. | Feb. 11, 2022 | 180520
Hendricks (FEMA Docket No.: B-2183) | Unincorporated Areas of Hendricks County, (21-05-1602P). | Ms. Phyllis Palmer, Hendricks County Commissioner, 355 South Washington Street, Danville, IN 46122. | Hendricks County Government Center, 355 South Washington Street, Danville, IN 46122. | Feb. 11, 2022 | 180415
Iowa: Story (FEMA Docket No.: B-2158) | City of Ames, (21-07-0024P). | The Honorable John Haila, Mayor, City of Ames, 515 Clark Avenue, Ames, IA 50010. | City Hall, 515 Clark Avenue, Ames, IA 50010. | Oct. 21, 2021 | 190254
Kansas: Shawnee (FEMA Docket No.: B-2158) | City of Topeka, (21-07-0131P). | The Honorable Michelle De La Isla, Mayor, City of Topeka, 215 Southeast 7th Street, Room 350, Topeka, KS 66603. | Engineering Division, 620 Southeast Madison Street, Topeka, KS 66603. | Oct. 12, 2021 | 205187
Michigan:
Macomb (FEMA Docket No.: B-2183) | Charter Township of Clinton, (21-05-2624P). | Mr. Robert J. Cannon, Township Supervisor, Charter Township of Clinton, 40700 Romeo Plank Road, Clinton, MI 48038. | Civic Center, 40700 Romeo Plank Road, Clinton, MI 48038. | Feb. 2, 2022 | 260121
Oakland (FEMA Docket No.: B-2158) | City of Farmington Hills, (20-05-4934P). | The Honorable Vicki Barnett, Mayor, City of Farmington Hills, 31555 West Eleven Mile Road, Farmington Hills, MI 48336. | City Hall, 31555 West Eleven Mile Road, Farmington Hills, MI 48336. | Oct. 22, 2021 | 260172
Oakland (FEMA Docket No.: B-2158) | City of Novi, (20-05-4934P). | The Honorable Bob Gatt, Mayor, City of Novi, Civic Center, 45175 Ten Mile Road, Novi, MI 48375. | Civic Center, 45175 Ten Mile Road, Novi, MI 48375. | Oct. 22, 2021 | 260175
Oakland (FEMA Docket No.: B-2183) | City of Troy, (21-05-3248P). | The Honorable Ethan Baker, Mayor, City of Troy, City Hall, 500 West Big Beaver Road, Troy, MI 48084. | City Hall, 500 West Big Beaver Road, Troy, MI 48084. | Jan. 21, 2022 | 260180
Wayne (FEMA Docket No.: B-2158) | Charter Township of Brownstown, (21-05-2424P). | Mr. Andrew Linko, Supervisor, Charter Township of Brownstown, Township Hall, 21313 Telegraph Road, Brownstown, MI 48183. | Charter Township Offices, 21313 Telegraph Road, Brownstone, MI 48183. | Nov. 18, 2021 | 260218
Wayne (FEMA Docket No.: B-2167) | City of Northville, (20-05-4952P). | The Honorable Brian Turnbull, Mayor, City of Northville, City Hall, 215 West Main Street, Northville, MI 48167. | City Hall, 215 West Main Street, Northville, MI 48167. | Nov. 26, 2021 | 260235
Minnesota:
Marshall (FEMA Docket No.: B-2158) | City of Oslo, (21-05-2364P). | The Honorable Erika Martens, Mayor, City of Oslo, City Hall, P.O. Box 187, Oslo, MN 56744. | City Hall, 107 3rd Avenue East, Oslo, MN 56744. | Nov. 5, 2021 | 270272
Marshall (FEMA Docket No.: B-2158) | Unincorporated Areas of Marshall County, (21-05-2364P). | Mr. Rolland Miller, Chairperson, Marshall County Board of Commissioners, 26817 420th Avenue Northwest, Warren, MN 56762. | Marshall County Courthouse, 208 East Colvin Avenue, Warren, MN 56762. | Nov. 5, 2021 | 270638
Washington (FEMA Docket No.: B-2167) | City of Afton, (20-05-4359P). | The Honorable Bill Palmquist, Mayor, City of Afton, 3033 St. Croix Trail, Afton, MN 55001. | City Hall, 3033 St. Croix Trail South, Afton, MN 55001 | Nov. 18, 2021 | 275226
Washington (FEMA Docket No.: B-2176) | City of Hugo, (21-05-0119P). | The Honorable Tom Weidt, Mayor, City of Hugo, City Hall, 14669 Fitzgerald Avenue North, Hugo, MN 55038. | City Hall, 14669 Fitzgerald Avenue North, Hugo, MN 55038. | Jan. 21, 2022 | 270504
Missouri:
Boone (FEMA Docket No.: B-2167) | City of Columbia, (21-07-0032P). | The Honorable Brian Treece, Mayor, City of Columbia, P.O. Box 6015, Columbia, MO 65205. | City Hall, 701 East Broadway, Columbia, MO 65205. | Nov. 8, 2021 | 290036
Boone (FEMA Docket No.: B-2183) | City of Columbia, (21-07-0218P). | The Honorable Brian Treece, Mayor, City of Columbia, P.O. Box 6015, Columbia, MO 65205. | City Hall, 701 East Broadway, Columbia, MO 65205. | Jan. 31, 2022 | 290036
Howell (FEMA Docket No.: B-2167 and 2176) | City of Willow Springs, (21-07-0432P). | The Honorable Brooke Fair, Mayor, City of Willow Springs, City Hall, P.O. Box 190, Willow Springs, MO 65793. | City Hall, 900 West Main Street, Willow Springs, MO 65793. | Dec. 16, 2021 | 290167
Howell (FEMA Docket No.: B-2167 and 2176) | Unincorporated Areas of Howell County, (21-07-0432P). | Mr. Mark Collins, County Commissioner, Howell County, 35 Court Square, West Plains, MO 65775. | Howell County Surveyor's Office, 1390 Bill Virdon Boulevard, West Plains, MO 65775. | Dec. 16, 2021 | 290806
Nevada:
Carson City (FEMA Docket No.: B-2167) | City of Carson City, (20-09-1029P). | The Honorable Lori Bagwell, Mayor, City of Carson City, City Hall, 201 North Carson Street Suite 2, Carson City, NV 89701. | Building Division, Permit Center, 108 East Proctor Street, Carson City, NV 89701. | Nov. 29, 2021 | 320001
Clark (FEMA Docket No.: B-2147) | City of Henderson, (21-09-0235P). | The Honorable Debra March, Mayor, City of Henderson, City Hall, 240 South Water Street, Henderson, NV 89015. | Public Works Department, 240 South Water Street, Henderson, NV 89015. | Oct. 1, 2021 | 320005
Clark (FEMA Docket No.: B-2158) | City of Henderson, (21-09-0246P). | The Honorable Debra March, Mayor, City of Henderson, City Hall, 240 South Water Street, Henderson, NV 89015. | Public Works Department, 240 South Water Street, Henderson, NV 89015. | Nov. 3, 2021 | 320005
Clark (FEMA Docket No.: B-2147) | Unincorporated Areas of Clark County, (21-09-0038P). | The Honorable Marilyn Kirkpatrick, Chair, Board of Commissioners, Clark County, 500 South Grand Central Parkway, 6th Floor, Las Vegas, NV 89155. | Clark County, Office of the Director of Public Works, 500 South Grand Central Parkway, 2nd Floor, Las Vegas, NV 89155. | Sep. 9, 2021 | 320003
Clark (FEMA Docket No.: B-2176) | Unincorporated Areas of Clark County, (21-09-0231P). | The Honorable Marilyn Kirkpatrick, Chair, Board of Commissioners, Clark County, 500 South Grand Central Parkway, 6th Floor, Las Vegas, NV 89155. | Clark County, Office of the Director of Public Works, 500 South Grand Central Parkway, 2nd Floor, Las Vegas, NV 89155. | Dec. 27, 2021 | 320003
Clark (FEMA Docket No.: B-2158) | Unincorporated Areas of Clark County, (21-09-0246P). | The Honorable Marilyn Kirkpatrick, Chair, Board of Commissioners, Clark County, 500 South Grand Central Parkway, 6th Floor, Las Vegas, NV 89155. | Office of the Director of Public Works, 500 South Grand Central Parkway, 2nd Floor, Las Vegas, NV 89155. | Nov. 3, 2021 | 320003
Washoe (FEMA Docket No.: B-2158) | Unincorporated Areas of Washoe County, (21-09-0392P). | The Honorable Bob Lucey, Chairman, Board of Commissioners, Washoe County, 1001 East 9th Street, Reno, NV 89512. | Washoe County Administration Building, Department of Public Works, 1001 East 9th Street, Reno, NV 89512. | Nov. 10, 2021 | 320019
New Jersey:
Passaic (FEMA Docket No.: B-2158) | Borough of Pompton Lakes, (21-02-0381P). | The Honorable Michael Serra, Mayor, Borough of Pompton Lakes, 25 Lenox Avenue, Pompton Lakes, NJ 07442. | Municipal Building, 25 Lenox Avenue, Pompton Lakes, NJ 07442. | Oct. 25, 2021 | 345528
Oregon:
Jackson (FEMA Docket No.: B-2167) | City of Medford, (21-10-0006P). | The Honorable Randy Sparacino, Mayor, City of Medford, City Hall, 411 West 8th Street, Medford, OR 97501. | City Hall, 411 West 8th Street, Medford, OR 97501. | Nov. 23, 2021 | 410096
Texas:
Dallas (FEMA Docket No.: B-2158) | Town of Highland Park, (21-06-0509P). | The Honorable Margo Goodwin, Mayor, Town of Highland Park, 4700 Drexel Drive, Highland Park, TX 75205. | Engineering Department, 4700 Drexel Drive, Highland Park, TX 75205. | Nov. 22, 2021 | 480178
Lubbock (FEMA Docket No.: B-2167) | City of Lubbock, (20-06-3021P). | The Honorable Dan Pope, Mayor, City of Lubbock, P.O. Box 2000, Lubbock, TX 79457. | City Hall, 1625 13th Street, Lubbock, TX 79401. | Dec. 7, 2021 | 480452
Rockwall (FEMA Docket No.: B-2183) | City of Rockwall, (21-06-1013P). | The Honorable Kevin Fowler, Mayor, City of Rockwall City Hall, 385 South Goliad Street, Rockwall, TX 75087. | City Hall, 385 South Goliad Street, Rockwall, TX 75087. | Feb. 7, 2022 | 480547
Tarrant (FEMA Docket No.: B-2167) | City of Forth Worth, (20-06-3225P). | The Honorable Mattie Parker, Mayor, City of Fort Worth, Mayor's Office, 200 Texas Street, Fort Worth, TX 76102. | Department of Transportation and Public Works, 200 Texas Street, Fort Worth, TX 76102. | Dec. 7, 2021 | 480596
Tarrant (FEMA Docket No.: B-2176) | City of Haslet, (20-06-3134P). | The Honorable Gary Hulsey, Mayor, City of Haslet, 101 Main Street, Haslet, TX 76052. | City Hall, 101 Main Street, Haslet, TX 76052. | Feb. 4, 2022 | 480600
Virginia:
Albemarle, (FEMA Docket No.: B-2158) | Unincorporated Areas of Albemarle County, (21-03-0174P). | Mr. Jeff Richardson, Albemarle County Executive, 401 McIntire Road, Charlottesville, VA 22902. | Albemarle County Department of Community Development, 401 McIntire Road, Charlottesville, VA 22902. | Nov. 5, 2021 | 510006
Washington:
Clark (FEMA Docket No.: B-2167) | City of Washougal, (21-10-1067P). | The Honorable Molly Coston, Mayor, City of Washougal, City Hall, 1701 C Street, Washougal, WA 98671. | City Hall, 1701 C Street, Washougal, WA 98671. | Nov. 26, 2021 | 530028
Clark (FEMA Docket No.: B-2167) | Unincorporated Areas of Clark County, (21-10-1067P). | Ms. Eileen Quiring O'Brien, Council Chair, Clark County, P.O. Box 5000, Vancouver, WA 98660. | Clark County Building Department, 1300 Franklin Street, Vancouver, WA 98660. | Nov. 26, 2021 | 530024
Snohomish (FEMA Docket No.: B-2183) | Unincorporated Areas of Snohomish County, (21-10-1427X). | Mr. Dave Somers, Snohomish County Executive, 3000 Rockefeller Avenue, M/S 407, Everett, WA 98201. | Snohomish County Planning and Development Services, 3000 Rockefeller Avenue, Everett, WA 98201. | Mar. 3, 2022 | 535534
Wisconsin:
Brown (FEMA Docket No.: B-2176) | Unincorporated Areas of Brown County, (21-05-0179P). | Mr. Patrick Buckley, Chair, Board of Supervisors District 11, Brown County, P.O. Box 23600, Green Bay, WI 54305. | Brown County, Zoning Office, 305 East Walnut Street, Green Bay, WI 54305. | Dec. 27, 2021 | 550020
Crawford (FEMA Docket No.: B-2158) | City of Prairie du Chien, (21-05-1223P). | The Honorable Dave Hemmer, Mayor, City of Prairie du Chien, 214 East Blackhawk Avenue, Prairie du Chien, WI 53821. | City Hall, 214 East Blackhawk Avenue, Prairie du Chien, WI 53821. | Oct. 28, 2021 | 555573
Dane (FEMA Docket No.: B-2167) | City of Sun Prairie, (21-05-0005P). | The Honorable Paul T. Esser, Mayor, City of Sun Prairie, City Hall, 300 East Main Street, 2nd Floor, Sun Prairie, WI 53590. | City Hall, 300 East Main Street, Sun Prairie, WI 53590. | Dec. 15, 2021 | 550573
La Crosse (FEMA Docket No.: B-2183) | City of La Crosse, (21-05-4567X). | The Honorable Mitch Reynolds, Mayor, City of La Crosse, City Hall, 400 La Crosse Street, La Crosse, WI 54601. | City Hall, 400 La Crosse Street, La Crosse, WI 54601. | Mar. 2, 2022 | 555562
La Crosse (FEMA Docket No.: B-2183) | Unincorporated Areas of La Crosse County, (21-05-4567X). | Ms. Monica Kruse, Chair, Board of Supervisors, La Crosse County, Administrative Center, 212 6th Street North, La Crosse, WI 54601. | La Crosse County Administration Center, 400 4th Street North, Room 3260, La Crosse, WI 54601. | Mar. 2, 2022 | 550217
Outagamie (FEMA Docket No.: B-2183) | City of New London, (21-05-1313P). | The Honorable Mark Herter, Mayor, City of New London, 215 North Shawano Street, New London, WI 54961. | City Hall, 215 North Shawano Street, New London, WI 54961. | Mar. 4, 2022 | 550308
Washington (FEMA Docket No.: B-2176) | Village of Richfield, (21-05-1969P). | Mr. John Jeffords, Village President, Village of Richfield, Village Hall, 4128 Hubertus Road, Hubertus, WI 53033. | Village Hall, 4128 Hubertus Road, Hubertus, WI 53033. | Jan. 14, 2022 | 550518

[FR Doc. 2022-04187 Filed 2-28-22; 8:45 am]

BILLING CODE 9110-12-P